DEPARTMENT OF HEALTH AND HUMAN SERVICES

Administration for Children and Families

[CFDA Number: 93.568]

Reallotment of FY 2015 Funds for the Low Income Home Energy Assistance Program (LIHEAP)

AGENCY: Office of Community Services, ACF, HHS.

ACTION: Notice of determination concerning funds available for reallotment.

SUMMARY: Notice is hereby given of a preliminary determination that funds from the fiscal year (FY) 2015 Low Income Home Energy Assistance Program (LIHEAP) are available for reallotment to states, territories, tribes, and Tribal Organizations that received FY 2016 direct LIHEAP grants. No subgrantees or other entities may apply for these funds.

Section 2607(b)(1) of the Low Income Home Energy Assistance Act (the Act), (42 U.S.C. 8626(b)(1)) requires that, if the Secretary of the U.S. Department of Health and Human Services (HHS) determines that, as of September 1 of any fiscal year, an amount in excess of 10 percent of the amount awarded to a grantee for that fiscal year (excluding Leveraging, REACH, and reallotted funds) will not be used by the grantee during that fiscal year, then the Secretary must notify the grantee and publish a notice in the Federal Register that such funds may be reallotted to LIHEAP grantees during the following fiscal year. If reallotted, the LIHEAP block grant allocation formula will be used to distribute the funds. No funds may be allotted to entities that are not direct LIHEAP grantees during FY 2016.

DATES: Submit comments on or before July 6, 2016.

ADDRESSES: Comments may be submitted to: Jeannie L. Chaffin, Director, Office of Community Services, 330 C Street SW., 5th Floor, Mail Room 5425, Washington, DC 20201.

FOR FURTHER INFORMATION CONTACT: Lauren Christopher, Director, Division of Energy Assistance, Office of Community Services, 330 C Street SW., 5th Floor, Mail Room 5425, Washington, DC 20201; telephone (202) 401-4870; email: lauren.christopher@acf.hhs.gov.

SUPPLEMENTARY INFORMATION: It has been determined that approximately $1,230,022 in LIHEAP funds may be available for reallotment during FY 2016. This determination is based on FY 2015 Carryover and Reallotment Reports that showed that seven grantees reported reallotment funds (Tennessee, Puerto Rico, Coyote Valley Band of Pomo Indians, Eastern Shoshone Tribe, Passmaquoddy Tribe at Pleasant Point, Poarch Band of Creek Indians, and The Klamath Tribes). Grantees submitted the FY 2015 Carryover and Reallotment Reports to the Office of Community Services (OCS), as required by regulations applicable to LIHEAP at 45 CFR 96.82. This amount, however, may increase because, as of April 1, 2016, the report for 68 grantees remains pending.

The statute allows grantees who have funds unobligated at the end of the federal fiscal year for which they are awarded to request that they be allowed to carry over up to 10 percent of their allotments to the next federal fiscal year. Funds in excess of this amount must be returned to HHS and are subject to reallotment under section 2607(b)(1) of the Act (42 U.S.C. 8626(b)(1)). The amount described in this notice was reported as unobligated FY 2015 funds in excess of the amount that these grantees could carry over to FY 2016.

OCS contacted each of the grantees to confirm that the FY 2015 funds indicated in the chart may be reallotted. In accordance with section 2607(b)(3) of the Act (42 U.S.C. 8626(b)(3)), comments will be accepted for a period of 30 days from the date of publication of this notice.

After considering any comments submitted, the Chief Executive Officers of LIHEAP grantees will be notified of the final reallotment amount. This decision will be published in the Federal Register.

If funds are reallotted, they will be allocated in accordance with section 2604 of the Act (42 U.S.C. 8623) and must be treated by LIHEAP grantees receiving them as an amount appropriated for FY 2016. As FY 2016 funds, they will be subject to all requirements of the Act, including section 2607(b)(2) (42 U.S.C. 8626(b)(2)), which requires that a grantee obligate at least 90 percent of its total block grant allocation for a fiscal year by the end of the fiscal year for which the funds are appropriated, that is, by September 30, 2016.

Estimated Reallotment Amounts of FY 2015 LIHEAP Funds
Grantee name | FY 2015 reallotment amount
Tennessee | $271,910
Puerto Rico | 818,566
Coyote Valley Band of Pomo Indians | 9,025
Eastern Shoshone Tribe | 37,413
Passmaquoddy Tribe at Pleasant Point | 33,602
Poarch Band of Creek Indians | 50,978
The Klamath Tribes | 8,528
Total | 1,230,022

Statutory Authority: 42 U.S.C. 8626.

Mary M. Wayland,
Senior Grants Policy Specialist, Division of Grants Policy, Office of Administration.

[FR Doc. 2016-13217 Filed 6-3-16; 8:45 am]

BILLING CODE 4184-80-P